DEPARTMENT OF HOMELAND SECURITY

Coast Guard

[Docket No. USCG-2010-0160]

Certificate of Alternative Compliance for the Lift Boat GARY CHIASSON ELEVATOR

AGENCY: Coast Guard, DHS.

ACTION: Notice.

SUMMARY: The Coast Guard announces that a Certificate of Alternative Compliance was issued for the lift boat GARY CHIASSON ELEVATOR as required by 33 U.S.C. 1605(c) and 33 CFR 81.18.

DATES: The Certificate of Alternate Compliance was issued on March 1, 2010.

ADDRESSES: The docket for this notice is available for inspection or copying at the Docket Management Facility (M-30), U.S. Department of Transportation, West Building Ground Floor, Room W12-140, 1200 New Jersey Avenue SE., Washington, DC 20590, between 9 a.m. and 5 p.m., Monday through Friday, except Federal holidays. You may also find this docket on the Internet by going to http://www.regulations.gov, inserting USCG-2010-0160 in the “Keyword” box, and then clicking “Search.”

FOR FURTHER INFORMATION CONTACT: If you have questions on this notice, call CWO2 David Mauldin, District Eight, Prevention Branch, U.S. Coast Guard, telephone 504-671-2153. If you have questions on viewing or submitting material to the docket, call Renee V. Wright, Program Manager, Docket Operations, telephone 202-366-9826.

SUPPLEMENTARY INFORMATION:

Background and Purpose

A Certificate of Alternative Compliance, as allowed under Title 33 of the Code of Federal Regulations, Parts 81 and 89, has been issued for the lift boat GARY CHIASSON ELEVATOR. The Certificate of Alternative Compliance permits the masthead light to be offset from the centerline 6′ to port. Placing the masthead light on the centerline as required by Rule 21 (a) of 72 COLREGS, and Rule 21 (a) of the Inland Rules Act, would result in a masthead light obstructed by the forward leg of the lift boat. In addition the sidelights may be located on the outermost edges of the top of the pilothouse. Due to the pilothouse being offset to port, the sidelights will also be offset to port. The port sidelight will be located 16.5′ from the centerline and the starboard sidelight will be located 11.5′ from the centerline. Both sidelights will be located greater than 10% inboard the greatest breadth of the vessel and 19′ forward of the masthead light. Placing the sidelights in the locations required by Annex I, paragraph 3(b) of 72 COLREGS, and Annex I, paragraph 84.05(b) of the Inland Rules Act would expose the sidelights to probable damage from the cranes. Furthermore, the stern light may be located on the main mast above the pilothouse, 56′ forward from the aft end of the vessel. Placing the stern light closer to the aft end of the vessel as required by Rule 21 (c) of 72 COLREGS, and Rule 21 (c) of the Inland Rules Act, would result in a stern light location exposed to damage from cargo and crane activity of the main deck working area of the vessel.

This notice is issued under authority of 33 U.S.C. 1605(c), and 33 CFR 81.18.

Dated: March 8, 2010.
By Direction of the Commander.
J. W. Johnson,
Commander, U.S. Coast Guard, Chief, Inspections and Investigations Branch, Eighth Coast Guard District.

[FR Doc. 2010-7814 Filed 4-6-10; 8:45 am]

BILLING CODE 9110-04-P